DEPARTMENT OF AGRICULTURE

Forest Service

Lassen National Forest; California; Treatment Unit-1 Project

AGENCY: Forest Service, USDA.

ACTION: Cancellation of notice of intent.

SUMMARY: This notice cancels the Notice of Intent to prepare an Environmental Impact Statement for the Treatment Unit-1 Project on the Lassen National Forest, published in the Federal Register on January 22, 2002 (Volume 67, Number 14, pages 2853-2856).

ADDRESSES: Almanor District Ranger, Lassen National Forest, P.O. Box 767, Chester, CA 96020.

FOR FURTHER INFORMATION CONTACT: Dominic Cesmat, telephone: (530) 258-2141.

SUPPLEMENTARY INFORMATION: A Notice of Intent to prepare an Environmental Impact Statement for the Treatment Unit-1 Project is cancelled because the Administrative Study that this project was linked to will be redesigned. The Administrative Study will be redesigned to accommodate the Forests' implementation of the HFQLG legislation and the National Fire Plan while simultaneously addressing concerns with the scientific design of the originally proposed study. Based on issues and questions raised during scoping, the proposed study was determined to be unacceptable regarding these factors.

Dated: April 29, 2003.
Jack T. Walton,
Acting Forest Supervisor.

[FR Doc. 03-11256 Filed 5-6-03; 8:45 am]

BILLING CODE 3410-11-M